DEPARTMENT OF STATE

[Public Notice: 11251]

Determination Pursuant to the Foreign Missions Act

Pursuant to the authority vested in the Secretary of State by the laws of the United States, including the Foreign Missions Act (22 U.S.C. 4301 et seq.), and delegated by the Secretary to me in accordance with the Department of State's Delegation of Authority No. 214, dated September 20, 1994, I hereby determine that the representative offices and operations in the United States of the National Association for China's Peaceful Unification, including its real property and personnel, are a foreign mission within the meaning of 22 U.S.C. 4302(a)(3).

Furthermore, I hereby determine it to be reasonably necessary to protect the interests of the United States to require the above noted entity, and its agents or employees acting on its behalf, to comply with the terms and conditions specified by the Department of State's Office of Foreign Missions relating to the above noted entities' operations in the United States.

Finally, I determine that the requirements established by Foreign Missions Act Designation and Determination 2020-2, dated June 5, 2020, (85 FR 11152) will not be applied to the National Association for China's Peaceful Unification unless and until further notice.

Clifton C. Seagroves,
Acting Director, Office of Foreign Missions.

[FR Doc. 2020-25122 Filed 11-12-20; 8:45 am]

BILLING CODE 4710-43-P